DEPARTMENT OF HEALTH AND HUMAN SERVICES

Centers for Disease Control and Prevention

[60Day-03-114]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-E11, Atlanta, GA 30333. Written comments should be received within 60 days of this notice.

Proposed Project: HIV Counseling and Testing System—New—The National Center for HIV, STD, and TB Prevention (NCHSTP), Centers for Disease Control and Prevention (CDC) proposes to start collection of a standard set of core variables for monitoring the HIV counseling, testing, and referral program using a new browser-based program evaluation and monitoring system. This request is for a 3-year clearance.

CDC funds cooperative agreements for 65 HIV prevention projects (50 states, 6 cities, 7 territories, Washington, DC, and Puerto Rico) and approximately 50 community based organizations to support HIV counseling, testing, and referral programs. HIV counseling, testing, and referral services in STD clinics, Women's Health Centers, Drug Treatment Centers, and other health facilities have been described as a primary prevention strategy of the national HIV prevention program. The funded public health departments and community based organizations have increased the provision of HIV counseling, testing, and referral activities to those at increased risk for acquiring or transmitting HIV, as well as minority communities and women of child bearing age.

CDC is responsible for monitoring and evaluating HIV prevention programs conducted under HIV Prevention cooperative agreements. HIV counseling, testing, and referral services are a vital component of HIV prevention programs. Without data to monitor and evaluate the impact of HIV counseling, testing, and referral programs, HIV prevention program priorities cannot be assessed and improved to prevent further spread of the epidemic. CDC needs minimal information from all grantees describing services provided for at-risk persons. The HIV Counseling and Testing System specify a minimal core dataset that will be used by all grantees. These data are routinely captured as part of provision of services.

Grantees will be able to use either the CDC browser-based system or their own unique electronic system to collect and submit this information. All reporting to the CDC will take place electronically. Grantees may develop their own paper forms to assist data collection. Electronic systems, e.g., Personal Digital Assistants (PDAs), may be used as appropriate to the setting. Completing the initial data submission will take approximately 2 minutes per electronic record. Approximately two (2) million records annually are expected from over 11,000 directly and indirectly funded grantee facilities. Once data are entered into the browser-based system, additional data collection efforts are not required. The total burden hours are 66,733 hours annually. There is no cost to respondents.

Respondents | Number of respondents | Number of responses per respondent | Average burden per response (in hours) | Total burden (in hours)
CDC Grantees | 11,000 | 182 | 2/60 | 66,733
Total | 11,000 |  |  | 66,733

Date: September 10, 2003.
Nancy E. Cheal,
Acting Associate Director for Policy, Planning and Evaluation, , Centers for Disease Control and Prevention.

[FR Doc. 03-23676 Filed 9-16-03; 8:45 am]

BILLING CODE 4163-18-P